DEPARTMENT OF TRANSPORTATION

Federal Aviation Administration

14 CFR Part 71

[Docket No. FAA-2003-15628; Airspace Docket No. 03-AWP-10]

Modification of Class E Airspace; Waimea-Kohala, HI

AGENCY: Federal Aviation Administration (FAA), DOT.

ACTION: Direct final rule; request for comments; correction and confirmation of effective date.

SUMMARY: This action corrects a rule that was published in the Federal Register on August 12, 2003, (68 FR 47846; FR Doc. 03-20406). It corrects an error in the latitude description of the Waimea-Kohala Airport and omits a word in the airspace description for Waimea-Kohala, HI. This document also confirms the effective date of the direct final rule, which modifies the Class E airspace at Waimea-Kohala, HI.

DATES: The direct final rule and this correction are effective at 0901 UTC on October 30, 2003. Comments for inclusion in the Rules Docket must have been received on or before August 29, 2003.

FOR FURTHER INFORMATION CONTACT: Debra Trindle, Air Traffic Division, Airspace Branch, AWP-520, Western-Pacific Region, Federal Aviation Administration, 15000 Aviation Boulevard, Lawndale, California 90261, telephone (310) 725-6622.

SUPPLEMENTARY INFORMATION: The FAA published FR Document 03-20406 in the Federal Register on August 12, 2003, (68 FR 47846) to modify Class E airspace at Waimea-Kohala, HI. The latitude description of the Waimea-Kohala Airport and the wording of the 700' Class E airspace were described incorrectly.

§ 71.1 [Corrected]

The following information corrects those errors for Waimea-Kohala, HI. On page 47847, correct the Waimea-Kohala Airport, HI latitude to read: (Lat. 20°00′05″ N,) and on page 47847, column 1, 3rd line from the bottom omit the word “the”.

Confirmation of Effective Date

The FAA published this direct final rule with a request for comments in the Federal Register on August 12, 2003, (68 FR 47846). The FAA uses the direct final rulemaking procedure for a non-controversial rule where the FAA believes that there will be no adverse public comment. This direct final rule advised the public that no adverse comments were anticipated, and that unless a written adverse comment, or a written notice of intent to submit such an adverse comment, were received within the comment period, the regulation would become effective on October 30, 2003. No adverse comments were received, and thus this action confirms that this direct final rule will be effective on that date.

Issued in Los Angeles, California, September 10, 2003.
John Clancy,
Manager, Air Traffic Division, Western-Pacific Region.

[FR Doc. 03-24142 Filed 9-25-03; 8:45 am]

BILLING CODE 4910-13-M